DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, the United States Department of Agriculture announces a meeting of the National Agricultural Research, Extension, Education, and Economics Advisory Board. This meeting is open to the general public.

DATES: The National Agricultural Research, Extension, Education, and Economics Advisory Board will meet March 7-9, 2007.

The public may file written comments before or up to two weeks after the meeting with the contact person.

ADDRESSES: The meeting will take place at the Mandarin Oriental Hotel, 1330 Maryland Avenue, SW., Washington, DC 20024. Written comments from the public may be sent to the Contact Person identified in this notice at: The National Agricultural Research, Extension, Education, and Economics Advisory Board; Research, Education, and Economics Advisory Board Office, Room 344-A, Jamie L. Whitten Building, United States Department of Agriculture, STOP 2255, 1400 Independence Avenue, SW., Washington, DC 20250-2255.

FOR FURTHER INFORMATION CONTACT: Joseph A. Dunn, Executive Director, National Agricultural Research, Extension, Education, and Economics Advisory Board; telephone: (202) 720-3684; fax: (202) 720-6199; or e-mail: JADunn@csrees.usda.gov.

SUPPLEMENTARY INFORMATION: On Thursday, March 8, 2007, from 8 a.m.-5:30 p.m. the full Advisory Board Meeting will meet beginning with introductory remarks provided by the Chair of the Advisory Board, and the Under Secretary for Research, Education, and Economics (REE), USDA. This meeting will have two focus sessions, one on “Farm Bill” topics and the other on the subject of “Food Safety and Human Health”. An evening session beginning at 6:30 p.m., and adjourning at 8:30 p.m. with a guest speaker who will present remarks on food safety. On Friday, February 9, 2006, the meeting will reconvene at 9 a.m. to hear recap highlights from the previous day's focus sessions followed by overall Board discussions. You will hear remarks from within and outside the USDA pertaining to the agency prospective on the individual topics. An opportunity for public comment will be offered after the meeting wrap-up. The Advisory Board Meeting will adjourn by 12 (noon).

Written comments by attendees or other interested stakeholders will be welcomed for the public record before and up to two weeks following the Board meeting (by close of business Friday, March 21, 2007). All statements will become a part of the official record of the National Agricultural Research, Extension, Education, and Economics Advisory Board and will be kept on file for public review in the Research, Extension, Education, and Economics Advisory Board Office.

Done at Washington, DC this 9th day of February, 2007.
Gale Buchanan,
Under Secretary, Research, Education, and Economics.

[FR Doc. E7-2649 Filed 2-14-07; 8:45 am]

BILLING CODE 3410-22-P